DEPARTMENT OF DEFENSE

Department of the Army

Notice of Availability of the Final Environmental Impact Statement (FEIS) for Base Realignment and Closure Actions at Aberdeen Proving Ground, MD

AGENCY: Department of the Army, DoD.

ACTION: Notice of Availability (NOA).

SUMMARY: The Department of the Army announces the availability of the FEIS that evaluates the potential environmental impacts associated with realignment actions directed by the Base Realignment and Closure (BRAC) Commission at Aberdeen Proving Ground, Maryland.

DATES: The waiting period on the FEIS will end 30 days after publication in the Federal Register.

ADDRESSES: To obtain copies of the FEIS, contact Mr. Buddy Keesee at: Department of the Army, Directorate of Safety, Health, and Environment, ATTN: IMNE-APG-SHE-R, Building 5650, Aberdeen Proving Ground, MD 21005-5001; e-mail Buddy.Keesee@us.army.mil.

FOR FURTHER INFORMATION CONTACT: Mr. Buddy Keesee at (410) 278-6755 during normal business hours.

SUPPLEMENTARY INFORMATION: As mandated by the 2005 BRAC Commission's recommendations, the FEIS addresses alternatives that include renovation of existing facilities and construction of new facilities required to accommodate incoming military missions and a net gain of about 4,400 people at Aberdeen Proving Ground. Activities realigning to Aberdeen Proving Ground are administrative and research and development in nature. Direct, indirect, and cumulative impacts of the Proposed Action have been considered. The FEIS has determined that the Proposed Action will result in potentially significant impacts to transportation and socioeconomics. the FEIS addresses several suggested improvements developed to lessen the impacts of the Proposed Action. Depending on the final siting of some facilities, there is the potential for significant impacts to cultural resources due to adverse effects resulting from disturbance or destruction of certain sites and buildings during renovation and construction activities. Impacts to these cultural resources would be direct, long-term, and significant. No other significant beneficial or significant adverse impacts have been identified for land use, aesthetics and visual resources, air quality, noise, geology and soil, water resources, biological resources, utilities, or hazardous and toxic substances. The No Action alternative provides the baseline conditions for comparison to the Proposed Alternative.

An electronic version of the FEIS is available for download on the U.S. Army BRAC Division Web site at: http://www.hqda.army.mil/acsim/brac/nepa_eis_docs.htm.

A Record of Decision will be signed at the end of the 30-day waiting period.

Dated: June 29, 2007.
Addison D. Davis, IV,
Deputy Assistant Secretary of the Army (Environment, Safety and Occupational Health).

[FR Doc. 07-3386 Filed 7-11-07; 8:45 am]

BILLING CODE 3710-08-M